FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 011932.

Title: HSDG/CCNI Vessel Sharing Agreement.

Parties: Hamburg-Sud; Compania Chilena de Navegacion Interoceanica S.A.

Filing Party: Wayne R. Rohde, Esq.; Sher & Blackwell LLP; 1850 M Street, NW.; Suite 900; Washington, DC 20036.

Synopsis: The agreement authorizes the parties to share vessel space between the U.S. East Coast and Caribbean and the West Coast of South America.

Agreement No.: 011933.

Title: Eastern Car Liners, Ltd./Industrial Maritime Carriers, LLC Space Charter Agreement.

Parties: Eastern Car Liners, Ltd. and Industrial Maritime Carriers, LLC.

Filing Party: Stephen M. Uthoff, Esq.; Coniglio & Uthoff; 60 Elm Avenue; Long Beach, CA 90802-4910.

Synopsis: The agreement permits ECL to charter space on IMC's vessels operating between the U.S. Gulf coast and Central and South America.

Agreement No.: 011934.

Title: Transpacific Space Charter (North China) Agreement.

Parties: CMA CGM, S.A. and COSCO Container Lines Company, Ltd.

Filing Party: Paul M. Keane, Esq.; Cichanowicz, Callan, Keane, Vengrow & Textor, LLP; 61 Broadway, Suite 3000; New York, NY 10006-2802.

Synopsis: The agreement permits CMA to charter space on COSCO's vessels operating between ports in China and the Port of Long Beach, CA.

Dated: January 20, 2006.
By order of the Federal Maritime Commission.
Bryant L. VanBrakle,
Secretary.

[FR Doc. E6-917 Filed 1-24-06; 8:45 am]

BILLING CODE 6730-01-P